DEPARTMENT OF ENERGY

Federal Energy Regulatory Commission

Combined Notice of Filings #2

Take notice that the Commission received the following electric corporate filings:

Docket Numbers: EC23-92-000.

Applicants: Midway-Sunset Cogeneration Company.

Description: Supplement to May 30, 2023, Application Under Section 204 of the Federal Power Act for Authorization to Issue Securities of Midway-Sunset Cogeneration Company.

Filed Date: 6/20/23.

Accession Number: 20230620-5238.

Comment Date: 5 p.m. ET 6/30/23.

Take notice that the Commission received the following electric rate filings:

Docket Numbers: ER16-2320-012.

Applicants: Pacific Gas and Electric Company.

Description: Compliance filing: TO 18 Order on Rehearing Compliance Filing to be effective N/A.

Filed Date: 6/20/23.

Accession Number: 20230620-5202.

Comment Date: 5 p.m. ET 7/11/23.

Docket Numbers: ER23-2179-000.

Applicants DC Energy New York, LLC.

Description: Tariff Amendment: Notice of Cancellation of FERC Electric Tariff, Volume No. 1 to be effective 6/21/2023.

Filed Date: 6/20/23.

Accession Number: 20230620-5054.

Comment Date: 5 p.m. ET 7/11/23.

Docket Numbers: ER23-2180-000.

Applicants: DC Energy Texas, LLC.

Description: Tariff Amendment: Notice of Cancellation of FERC Electric Tariff, Volume No. 1 to be effective 6/21/2023.

Filed Date: 6/20/23.

Accession Number: 20230620-5057.

Comment Date: 5 p.m. ET 7/11/23.

Docket Numbers: ER23-2181-000.

Applicants: DC Energy, LLC.

Description: Tariff Amendment: Notice of Cancellation of FERC Electric Tariff, Volume No. 1 to be effective 6/21/2023.

Filed Date: 6/20/23.

Accession Number: 20230620-5058.

Comment Date: 5 p.m. ET 7/11/23.

Docket Numbers: ER23-2182-000.

Applicants: New England Power Company.

Description: New England Power Company submits a Notice of Cancellation of the Interconnection Agreement with TransCanada Hydro Northeast Inc.

Filed Date: 6/14/23.

Accession Number: 20230614-5145.

Comment Date: 5 p.m. ET 7/5/23.

Docket Numbers: ER23-2183-000.

Applicants: Southwest Power Pool, Inc.

Description: § 205(d) Rate Filing: Revisions to WEIS Tariff Regarding the Market Power Test to be effective 12/31/9998.

Filed Date: 6/20/23.

Accession Number: 20230620-5071.

Comment Date: 5 p.m. ET 7/11/23.

Docket Numbers: ER23-2186-000.

Applicants: SR DeSoto II, LLC.

Description: Baseline eTariff Filing: Market-Based Rate Application to be effective 8/4/2023.

Filed Date: 6/20/23.

Accession Number: 20230620-5089.

Comment Date: 5 p.m. ET 7/11/23.

Docket Numbers: ER23-2188-000.

Applicants: SR DeSoto III Lessee, LLC.

Description: Baseline eTariff Filing: Market-Based Rate Application to be effective 8/4/2023.

Filed Date: 6/20/23.

Accession Number: 20230620-5094.

Comment Date: 5 p.m. ET 7/11/23.

Docket Numbers: ER23-2189-000.

Applicants: Southwest Power Pool, Inc.

Description: § 205(d) Rate Filing: 1895R12 Evergy Kansas Central, Inc. NITSA NOA to be effective 9/1/2023.

Filed Date: 6/20/23.

Accession Number: 20230620-5098.

Comment Date: 5 p.m. ET 7/11/23.

Docket Numbers: ER23-2190-000.

Applicants: SR DeSoto III, LLC.

Description: Baseline eTariff Filing: Market-Based Rate Application to be effective 8/4/2023.

Filed Date: 6/20/23.

Accession Number: 20230620-5101.

Comment Date: 5 p.m. ET 7/11/23.

Docket Numbers: ER23-2191-000.

Applicants: Apollo Energy, LLC.

Description: Baseline eTariff Filing: Baseline new to be effective 6/21/2023.

Filed Date: 6/20/23.

Accession Number: 20230620-5108.

Comment Date: 5 p.m. ET 7/11/23.

Docket Numbers: ER23-2192-000.

Applicants: NN8, LLC.

Description: Baseline eTariff Filing: Baseline new to be effective 6/21/2023.

Filed Date: 6/20/23.

Accession Number: 20230620-5112.

Comment Date: 5 p.m. ET 7/11/23.

Docket Numbers: ER23-2193-000.

Applicants: Southern California Edison Company.

Description: § 205(d) Rate Filing: Cancel LA, Placerita Energy Storage Project WDT1649/SA No. 1138 to be effective 8/20/2023.

Filed Date: 6/20/23.

Accession Number: 20230620-5122.

Comment Date: 5 p.m. ET 7/11/23.

Docket Numbers: ER23-2194-000.

Applicants: Southwest Power Pool, Inc.

Description: § 205(d) Rate Filing: 1892R12 Evergy Kansas Central, Inc. NITSA NOA to be effective 9/1/2023.

Filed Date: 6/20/23.

Accession Number: 20230620-5128.

Comment Date: 5 p.m. ET 7/11/23.

Docket Numbers: ER23-2195-000.

Applicants: Midcontinent Independent System Operator, Inc.

Description: § 205(d) Rate Filing: 2023-06-20_SA 2077 Termination of NSP-WAPA IA to be effective 12/31/9998.

Filed Date: 6/20/23.

Accession Number: 20230620-5129.

Comment Date: 5 p.m. ET 7/11/23.

Docket Numbers: ER23-2196-000.

Applicants: Southern California Edison Company.

Description: Tariff Amendment: Termination of Resurgence I LA/SA285 & 3 LGIAs/SA189-190-207 (TOT692-693-694) to be effective 8/20/2023.

Filed Date: 6/20/23.

Accession Number: 20230620-5132.

Comment Date: 5 p.m. ET 7/11/23.

Docket Numbers: ER23-2197-000.

Applicants: Southwest Power Pool, Inc.

Description: § 205(d) Rate Filing: 1893R13 Evergy Kansas Central, Inc. NITSA NOA to be effective 9/1/2023.

Filed Date: 6/20/23.

Accession Number: 20230620-5141.

Comment Date: 5 p.m. ET 7/11/23.

Docket Numbers: ER23-2198-000.

Applicants: Southwest Power Pool, Inc.

Description: § 205(d) Rate Filing: 1894R12 Evergy Kansas Central, Inc. NITSA NOA to be effective 9/1/2023.

Filed Date: 6/20/23.

Accession Number: 20230620-5148

Comment Date: 5 p.m. ET 7/11/23.

Take notice that the Commission received the following electric securities filings:

Docket Numbers: ES23-51-000.

Applicants: Southwest Power Pool, Inc.

Description: Application Under Section 204 of the Federal Power Act for Authorization to Issue Securities of Southwest Power Pool, Inc.

Filed Date: 6/16/23.

Accession Number: 20230616-5235.

Comment Date: 5 p.m. ET 7/7/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: June 20, 2023.
Debbie-Anne A. Reese,
Deputy Secretary.

[FR Doc. 2023-13487 Filed 6-23-23; 8:45 am]

BILLING CODE 6717-01-P